DEPARTMENT OF COMMERCE

National Oceanic and Atmospheric Administration

Final Management Plan for the Apalachicola National Estuarine Research Reserve

AGENCY: Office for Coastal Management, National Ocean Service, National Oceanic and Atmospheric Administration, U.S. Department of Commerce.

ACTION: Notice of approval of the revised management plan Apalachicola National Estuarine Research Reserves.

SUMMARY: Notice is hereby given that the Office for Coastal Management, National Ocean Service, National Oceanic and Atmospheric Administration (NOAA), U.S. Department of Commerce approves the revised management plan for the Apalachicola National Estuarine Research Reserve in Florida. In accordance with applicable Federal regulations, the Florida Department of Environmental Protection revised the Apalachicola Reserve's management plan, which replaces the plan previously approved in 2015.

ADDRESSES: The approved Apalachicola Reserve management plan can be downloaded or viewed at https://floridadep.gov/rcp/nerr-apalachicola/documents/apalachicola-nerr-management-plan. These documents are also available by sending a written request to the point of contact identified below (see FOR FURTHER INFORMATION CONTACT).

FOR FURTHER INFORMATION CONTACT: Matt Chasse of NOAA's Office for Coastal Management, by email at matt.chasse@noaa.gov, phone at 240-628-5417.

SUPPLEMENTARY INFORMATION: Pursuant to 15 CFR 921.33(c), Florida must revise the management plan for the Apalachicola research reserve at least every five years. Changes to a reserve's management plan may be made only after receiving written approval from NOAA. NOAA approves changes to management plans via notice in the Federal Register. On December 27, 2023, NOAA issued a notice in the Federal Register announcing a thirty-day public comment period for the proposed revision of the management plan for the Apalachicola National Estuarine Research Reserve (87 FR 89406). Appendix C of the plan contains a summary of written and oral comments received, and an explanation of how comments were incorporated into the final version of the management plan.

The revised management plan outlines the reserve's: strategic goals and objectives; administrative structure; programs for conducting research and monitoring, education, and training; resource management, restoration and public use and access; volunteer support, and communications plans; consideration for future land acquisition; and facility development and improvement to support reserve operations.

The Apalachicola's revised management plan will focus on addressing specific coastal management issues including hydrological changes in the Apalachicola River and floodplain; coastal development; and climate change and extreme events. Research and monitoring aims to expand understanding of the ecological processes related to the Apalachicola River and watershed and develop new research initiatives and monitoring projects to fill gaps in our understanding of key ecosystem functions related to pollutants, habitats, and diversity. Reserve education programming prioritizes in-field studies for students and teachers. Programming for K-12 students will be provided for a continuity of content across the entire academic experience of local students. Reserve outreach efforts will target participants from all ages and walks of life while recognizing the local community as key stakeholders. Coastal training will deliver formal trainings, skill-building opportunities, tools and technical assistance that enable audiences to continue to implement sound policies based on science that protect the environment. In addition, the reserve's regular engagement with decision makers strengthens partnerships, furthers assessments of audience needs and forges positive working relationships with decision makers to increase stewardship and resilience throughout the reserve.

Furthermore, no reserve boundary or acreage changes are incorporated into the revised management plan. The revised management plan will serve as the guiding document for the 234,715 acre Apalachicola National Estuarine Research Reserve for the next five years.

NOAA reviewed the environmental impacts of the revised management plan and determined that this action is categorically excluded from further analysis under the National Environmental Policy Act (NEPA), as amended, 42 U.S.C. 4321 et seq., and the Council on Environmental Quality Regulations for Implementing the Procedural Provisions of NEPA (40 CFR 1500-1508 (2022), consistent with NOAA Administrative Order 216-6A.

Authority: 16 U.S.C. 1451 et seq.; 15 CFR 921.33.

Keelin S. Kuipers,
Deputy Director, Office for Coastal Management, National Ocean Service, National Oceanic and Atmospheric Administration.

[FR Doc. 2024-18333 Filed 8-15-24; 8:45 am]

BILLING CODE 3510-08-P